DEPARTMENT OF THE INTERIOR

Bureau of Land Management

43 CFR Part 3170

[BLM_HQ_FRN_MO4500173878]

RIN 1004-AE90

Onshore Oil and Gas Operations; Federal and Indian Oil and Gas Leases; Codification of Onshore Orders 1, 2, 6, and 7; Correction

AGENCY: Bureau of Land Management, Interior.

ACTION: Correcting amendment.

SUMMARY: On June 16, 2023, the Bureau of Land Management (BLM) published a final rule that codified Onshore Order 1—Approval of Operations; Onshore Order 2—Drilling Operations on Federal and Indian Oil and Gas Leases; Onshore Order 6—Hydrogen Sulfide Operations; and Onshore Order 7—Disposal of Produced Water into the Code of Federal Regulations (CFR). This action corrects two cross references in that regulation.

DATES: Effective on November 1, 2023.

ADDRESSES: You may send inquiries or suggestions to Director (630), Bureau of Land Management, 1849 C St. NW, Room 5646, Washington, DC 20240; Attention: RIN 1004-AE90.

FOR FURTHER INFORMATION CONTACT: Yvette Fields, Chief, Division of Fluid Minerals, telephone: 240-712-8358, email: yfields@blm.gov; or Faith Bremner, Regulatory Analyst, Division of Regulatory Affairs, email: fbremner@blm.gov. Individuals in the United States who are deaf, blind, hard of hearing, or have a speech disability may dial 711 (TTY, TDD, or TeleBraille) to access telecommunications relay services for contacting Ms. Fields. Individuals outside the United States should use the relay services offered within their country to make international calls to the point-of-contact in the United States.

SUPPLEMENTARY INFORMATION: The final codification rule (June 16, 2023, 88 FR 39514), placed the four Onshore Orders into the CFR without making any substantive changes to their content. The only changes made to the four Onshore Orders were related to formatting, such as adding new section and paragraph designations, so that the Orders conform to the Office of the Federal Register's Document Drafting Handbook requirements. Since the four Onshore Orders were duly promulgated through prior notice-and-comment rulemakings, and the final rule did not change them, the BLM codified the orders in the CFR as a final rule without any further public comment.

The technical amendment that is the subject of this correction is prompted by the inclusion of two incorrect cross references in the final codification rule. During the process of preparing the final rule for publication and updating cross references throughout the document, the BLM inadvertently included incorrect cross references in a portion of the final rule that pertain to blowout preventer testing requirements. These requirements are found at 43 CFR 3172.6. These testing requirements have been in effect since 1988.

List of Subjects in 43 CFR Part 3170

Administrative practice and procedure, Disposal of produced water, Drilling operations, Flaring, Government contracts, Hydrogen sulfide operations, Indians-lands, Immediate assessments, Mineral royalties, Oil and gas exploration, Oil and gas measurement, Public lands—mineral resources, Reporting and record keeping requirements, Royalty-free use, Venting.

Accordingly, 43 CFR part 3170 is corrected by making the following correcting amendments:

PART 3170—ONSHORE OIL AND GAS PRODUCTION

1. The authority citation for part 3170 continues to read as follows:

Authority: 25 U.S.C. 396d and 2107; 30 U.S.C. 189, 306, 359, and 1751; and 43 U.S.C. 1732(b), 1733, and 1740.

2. Amend § 3172.6 by revising paragraphs (b)(9)(iv) introductory text and (b)(9)(xi) to read as follows:

§ 3172.6 Well control.

* * * * *

(b) * * *

(9) * * *

(iv) As a minimum, the test in paragraphs (b)(9)(ii) and (iii) of this section shall be performed:

* * * * *

(xi) All of the tests described in paragraphs (b)(9)(ii) through (x) of this section and/or drills shall be recorded in the drilling log.

* * * * *

Laura Daniel-Davis,
Principal Deputy Assistant Secretary, Land and Minerals Management.

[FR Doc. 2023-24053 Filed 10-31-23; 8:45 am]

BILLING CODE 4331-29-P